NUCLEAR REGULATORY COMMISSION

[NRC-2021-0074]

Environmental Assessments and Findings of No Significant Impact of Independent Spent Fuel Storage Facilities Decommissioning Funding Plans

AGENCY: Nuclear Regulatory Commission.

ACTION: Environmental assessment and finding of no significant impact; issuance.

SUMMARY: The U.S. Nuclear Regulatory Commission (NRC) is publishing this notice regarding the issuance of a final Environmental Assessment (EA) and a Finding of No Significant Impact (FONSI) for its review and approval of the initial and updated decommissioning funding plans (DFPs) submitted by independent spent fuel storage installation (ISFSI) licensees for each of the ISFSIs listed in the “Discussion” section of this document.

DATES: The EA and FONSI referenced in this document are available on May 4, 2021.

ADDRESSES: Please refer to Docket ID NRC-2021-0074 when contacting the NRC about the availability of information regarding this document. You may obtain publicly available information related to this document using any of the following methods:

• Federal Rulemaking Website: Go to https://www.regulations.gov and search for Docket ID NRC-2021-0074. Address questions about Docket IDs in Regulations.gov to Stacy Schumann; telephone: 301-415-0624; email: Stacy.Schumann@nrc.gov For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Donald Habib, Office of Nuclear Material Safety and Safeguards, U.S. Nuclear Regulatory Commission, Washington, DC 20555-0001; telephone: 301-415-1035, email: Donald.Habib@nrc.gov.

SUPPLEMENTARY INFORMATION:

I. Introduction

The NRC is considering the approval of the initial and updated DFPs submitted by ISFSI licensees. The NRC staff has prepared a final EA and FONSI determination for each of the initial and updated ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35512). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The table in this notice includes the plant name, docket number, licensee, and ADAMS Accession Number for the final EA and FONSI determination for each of the individual ISFSIs. The table also includes the ADAMS Accession Numbers for other relevant documents, including the initial and updated DFP submittals. For further details with respect to these actions, see the NRC staff's Final EA and FONSI determinations which are available for public inspection in ADAMS and at https://www.regulations.gov under Docket ID NRC-2021-0074. For additional direction on accessing information related to this document, see the ADDRESSES section of this document.

Finding of No Significant Impact
Facility | Turkey Point Nuclear Generating Units 3 and 4.
Docket No. | 72-62.
Licensee | Florida Power & Light Company.
Proposed Action | The NRC's review and approval of Florida Power & Light Company's initial and NextEra Energy's updated DFPs submitted in accordance with 10 CFR 72.30(b) and (c).
Environmental Impact of Proposed Action | The NRC staff has determined that the proposed action, the review and approval of Florida Power & Light Company's initial and NextEra Energy's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Florida Power & Light Company's initial and NextEra Energy's updated DFPs. The scope of the proposed action does not include, and will not result in, the review and approval of decontamination or decommissioning activities or license termination for the ISFSI or for other parts of Turkey Point Nuclear Generating Units 3 and 4. Therefore, the NRC staff determined that approval of the initial and updated DFPs for the Turkey Point Nuclear Generating Units 3 and 4 ISFSI will not significantly affect the quality of the human environment, and accordingly, the staff has concluded that a FONSI is appropriate. The NRC staff further finds that preparation of an environmental impact statement (EIS) is not required.
Available Documents | FPL, 2012. ISFSI DFPs, dated December 17, 2012. ADAMS Accession No. ML12354A134.
| FPL, 2014. Reply to Request for Additional Information for Review of the DFPs Regarding the ISFSI, dated August 12, 2014. ADAMS Accession No. ML14225A655.
| FPL, 2017. Decommissioning Funding Status Reports/ISFSI Financial Assurance Update, dated March 30, 2017. ADAMS Accession No. ML17093A722.
| FPL, 2018. Response to Request for Additional Information Regarding Florida Power & Light/NextEra Decommissioning Funding Updates for ISFSI, dated April 3, 2018. ADAMS Accession No. ML18095A057.
| NextEra Energy, 2015. Decommissioning Funding Status Reports/ISFSI Financial Assurance Update, dated March 27, 2015. ADAMS Accession No. ML15090A114.
| U.S. Nuclear Regulatory Commission. 2003/08/31-NUREG-1748, “Environmental Review Guidance for Licensing Actions Associated with NMSS Programs, Final Report.” Washington, DC, dated August 2003. ADAMS Accession No. ML032540811.
| U.S. Nuclear Regulatory Commission. EA for Final Rule-Decommissioning Planning, dated February 1, 2009. ADAMS Accession No. ML090500648.
| U.S. Nuclear Regulatory Commission. Request for Additional Information for Review of the DFPs for Florida Power & Light and NextEra Energy ISFSIs, dated May 23, 2014. ADAMS Accession No. ML14143A141.
| U.S. Nuclear Regulatory Commission. Review of the Draft EA and FONSI for the Turkey Point Units 3 and 4 ISFSI DFP, dated June 22, 2016. ADAMS Accession No. ML16174A331.
| U.S. Nuclear Regulatory Commission. Note to File, Re: ESA Section 7 No Effect Determination for ISFSI DFP Reviews, dated May 15, 2017. ADAMS Accession No. ML17135A062.
| U.S. Nuclear Regulatory Commission. Request for Additional Information Regarding Florida Power & Light/NextEra DFP Updates for St. Lucie, Units 1 and 2; Seabrook Station; Duane Arnold Energy Center; and Point Beach, Units 1 and 2 ISFSIs, dated February 27, 2018. ADAMS Package Accession No. ML18058A051.
| U.S. Nuclear Regulatory Commission. Final EA and FONSI for Florida Power & Light Company's Initial and NextEra Energy's Updated DFPs Submitted in Accordance with 10 CFR 72.30(b) and (c) for Turkey Point Nuclear Generating Units 3 and 4 ISFSI, dated April 21, 2021. ADAMS Package Accession No. ML21062A055.
Facility | St. Lucie Plant Units 1 and 2.
Docket No. | 72-61.
Licensee | Florida Power & Light Company.
Proposed Action | The NRC's review and approval of Florida Power & Light Company's initial and NextEra Energy's updated DFPs submitted in accordance with 10 CFR 72.30(b) and (c).
Environmental Impact of Proposed Action | The NRC staff has determined that the proposed action, the review and approval of Florida Power & Light Company's initial and NextEra Energy's updated DFPs, submitted in accordance with 10 CFR 72.30(b) and (c), will not authorize or changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Florida Power & Light Company's initial and NextEra Energy's updated DFPs. The scope of the proposed action does not include, and will not result in, the review and approval of decontamination or decommissioning activities or license termination for the ISFSI or for other parts of the St. Lucie Plant Units 1 and 2. Therefore, the NRC staff determined that approval of the initial and updated DFPs for the St. Lucie Plant Units 1 and 2 ISFSI will not significantly affect the quality of the human environment, and accordingly, the staff has concluded that a FONSI is appropriate. The NRC staff further finds that preparation of an environmental impact statement (EIS) is not required.
Available Documents | FPL, 2012. ISFSI DFPs, dated December 17, 2012. ADAMS Accession No. ML12354A134.
| FPL, 2014. Reply to Request for Additional Information for Review of the DFPs Regarding the ISFSI, dated August 12, 2014. ADAMS Accession No. ML14225A655.
| FPL, 2017. Decommissioning Funding Status Reports/ISFSI Financial Assurance Update, dated March 30, 2017. ADAMS Accession No. ML17093A722.
| FPL, 2018. Response to Request for Additional Information Regarding Florida Power & Light/NextEra Decommissioning Funding Updates for ISFSI, dated April 3, 2018. ADAMS Accession No. ML18095A057.
| NextEra Energy, 2015. Decommissioning Funding Status Reports/ISFSI Financial Assurance Update, dated March 27, 2015. ADAMS Accession No. ML15090A114.
| U.S. Nuclear Regulatory Commission. 2003/08/31-NUREG-1748, “Environmental Review Guidance for Licensing Actions Associated with NMSS Programs, Final Report.” Washington, DC, dated August 2003. ADAMS Accession No. ML032540811.
| U.S. Nuclear Regulatory Commission. EA for Final Rule-Decommissioning Planning, dated February 1, 2009. ADAMS Accession No. ML090500648.
| U.S. Nuclear Regulatory Commission. Request for Additional Information for Review of the DFPs for Florida Power & Light and NextEra Energy ISFSIs, dated May 23, 2014. ADAMS Accession No. ML14143A141.
| U.S. Nuclear Regulatory Commission. Review of the Draft EA and FONSI for the St. Lucie Units 1 and 2 ISFSI DFP, dated June 22, 2016. ADAMS Accession No. ML16174A112.
| U.S. Nuclear Regulatory Commission. Note to File, Re: ESA Section 7 No Effect Determination for ISFSI DFP Reviews, dated May 15, 2017. ADAMS Accession No. ML17135A062.
| U.S. Nuclear Regulatory Commission. Request for Additional Information Regarding Florida Power & Light/NextEra DFP Updates for St. Lucie, Units 1 and 2; Seabrook Station; Duane Arnold Energy Center; and Point Beach, Units 1 and 2 ISFSIs, dated February 27, 2018. ADAMS Package Accession No. ML18058A051.
| U.S. Nuclear Regulatory Commission. Final EA and FONSI for Florida Power & Light Company's initial and NextEra Energy's Updated DFPs Submitted in Accordance with 10 CFR 72.30(b) and (c) for St. Lucie Plant Units 1 and 2 ISFSI, dated April 21, 2021. ADAMS Package Accession No. ML21062A061.
Facility | Point Beach Nuclear Plant Units 1 and 2.
Docket No. | 72-05.
Licensee | NextEra Energy Point Beach, LLC.
Proposed Action | The NRC's review and approval of Florida Power & Light Company's initial and NextEra Energy's updated DFPs submitted in accordance with 10 CFR 72.30(b) and (c).
Environmental Impact of Proposed Action | The NRC staff has determined that the proposed action, the review and approval of Florida Power & Light Company's initial and NextEra Energy's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Florida Power & Light Company's initial and NextEra Energy's updated DFPs. The scope of the proposed action does not include, and will not result in, the review and approval of decontamination or decommissioning activities or license termination for the ISFSI or for other parts of Point Beach Nuclear Plant Units 1 and 2. Therefore, the NRC staff determined that approval of the initial and updated DFPs for the Point Beach Nuclear Plant Units 1 and 2 ISFSI will not significantly affect the quality of the human environment, and accordingly, the staff has concluded that a FONSI is appropriate. The NRC staff further finds that preparation of an environmental impact statement (EIS) is not required.
Available Documents | FPL, 2012. ISFSI DFPs, dated December 17, 2012. ADAMS Accession No. ML12354A134.
| FPL, 2014. Reply to Request for Additional Information for Review of the DFPs Regarding the ISFSI, dated August 12, 2014. ADAMS Accession No. ML14225A655.
| FPL, 2017. Decommissioning Funding Status Reports/ISFSI Financial Assurance Update, dated March 30, 2017. ADAMS Accession No. ML17093A722.
| FPL, 2018. Response to Request for Additional Information Regarding Florida Power & Light/NextEra Decommissioning Funding Updates for ISFSI, dated April 3, 2018. ADAMS Accession No. ML18095A057.
| NextEra Energy, 2015. Decommissioning Funding Status Reports/ISFSI Financial Assurance Update, dated March 27, 2015. ADAMS Accession No. ML15090A114.
| U.S. Nuclear Regulatory Commission. 2003/08/31-NUREG-1748, “Environmental Review Guidance for Licensing Actions Associated with NMSS Programs, Final Report.” Washington, DC, dated August 2003. ADAMS Accession No. ML032540811.
| U.S. Nuclear Regulatory Commission. EA for Final Rule-Decommissioning Planning, dated February 1, 2009. ADAMS Accession No. ML090500648.
| U.S. Nuclear Regulatory Commission. Request for Additional Information for Review of the DFPs for Florida Power & Light and NextEra Energy ISFSIs, dated May 23, 2014. ADAMS Accession No. ML14143A141.
| U.S. Nuclear Regulatory Commission. Review of the Draft EA and FONSI for the Point Beach Nuclear ISFSI DFP, dated October 19, 2016. ADAMS Accession No. ML16293A165.
| U.S. Nuclear Regulatory Commission. Note to File, Re: ESA Section 7 No Effect Determination for ISFSI DFP Reviews, dated May 15, 2017. ADAMS Accession No. ML17135A062.
| U.S. Nuclear Regulatory Commission. Request for Additional Information Regarding Florida Power & Light/NextEra DFP Updates for St. Lucie, Units 1 and 2; Seabrook Station; Duane Arnold Energy Center; and Point Beach, Units 1 and 2 ISFSIs, dated February 27, 2018. ADAMS Package Accession No. ML18058A051.
| U.S. Nuclear Regulatory Commission. Final EA and FONSI for Florida Power & Light Company's Initial and NextEra Energy's Updated DFPs Submitted in Accordance with 10 CFR 72.30(b) and (c) for Point Beach Nuclear Plant Units 1 and 2 ISFSI dated April 21, 2021. ADAMS Package Accession No. ML21062A069.
Facility | Duane Arnold Energy Center.
Docket No. | 72-32.
Licensee | NextEra Energy Duane Arnold, LLC.
Proposed Action | The NRC's review and approval of Florida Power & Light Company's initial and NextEra Energy's updated DFPs submitted in accordance with 10 CFR 72.30(b) and (c).
Environmental Impact of Proposed Action | The NRC staff has determined that the proposed action, the review and approval of Florida Power & Light Company's initial and NextEra Energy's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Florida Power & Light Company's initial and NextEra Energy's updated DFPs. The scope of the proposed action does not include, and will not result in, the review and approval of decontamination or decommissioning activities or license termination for the ISFSI or for other parts of Duane Arnold Energy Center. Therefore, the NRC staff determined that approval of the initial and updated DFPs for the Duane Arnold Energy Center ISFSI will not significantly affect the quality of the human environment, and accordingly, the staff has concluded that a FONSI is appropriate. The NRC staff further finds that preparation of an environmental impact statement (EIS) is not required.
Available Documents | FPL, 2012. ISFSI DFPs, dated December 17, 2012. ADAMS Accession No. ML12354A134.
| FPL, 2014. Reply to Request for Additional Information for Review of the DFPs Regarding the ISFSI, dated August 12, 2014. ADAMS Accession No. ML14225A655.
| FPL, 2017. Decommissioning Funding Status Reports/ISFSI Financial Assurance Update, dated March 30, 2017. ADAMS Accession No. ML17093A722.
| FPL, 2018. Response to Request for Additional Information Regarding Florida Power & Light/NextEra Decommissioning Funding Updates for ISFSI, dated April 3, 2018. ADAMS Accession No. ML18095A057.
| NextEra Energy, 2015. Decommissioning Funding Status Reports/ISFSI Financial Assurance Update, dated March 27, 2015. ADAMS Accession No. ML15090A114.
| U.S. Nuclear Regulatory Commission. 2003/08/31-NUREG-1748, “Environmental Review Guidance for Licensing Actions Associated with NMSS Programs, Final Report.” Washington, DC, dated August 2003. ADAMS Accession No. ML032540811.
| U.S. Nuclear Regulatory Commission. EA for Final Rule-Decommissioning Planning, dated February 1, 2009. ADAMS Accession No. ML090500648.
| U.S. Nuclear Regulatory Commission. Request for Additional Information for Review of the DFPs for Florida Power & Light and NextEra Energy ISFSIs, dated May 23, 2014. ADAMS Accession No. ML14143A141.
| U.S. Nuclear Regulatory Commission. Review of the Draft EA and FONSI for the Duane Arnold Energy Center ISFSI DFP, dated July 27, 2016. ADAMS Accession No. ML16209A457.
| U.S. Nuclear Regulatory Commission. Note to File, Re: ESA Section 7 No Effect Determination for ISFSI DFP Reviews, dated May 15, 2017. ADAMS Accession No. ML17135A062.
| U.S. Nuclear Regulatory Commission. Request for Additional Information Regarding Florida Power & Light/NextEra DFP Updates for St. Lucie, Units 1 and 2; Seabrook Station; Duane Arnold Energy Center; and Point Beach, Units 1 and 2 ISFSIs, dated February 27, 2018. ADAMS Package Accession No. ML18058A051.
| U.S. Nuclear Regulatory Commission. Final EA and FONSI for Florida Power & Light Company's Initial and NextEra Energy's Updated DFPs Submitted in Accordance with 10 CFR 72.30(b) and (c) for Duane Arnold Energy Center ISFSI, dated April 21, 2021. ADAMS Accession Package No. ML21062A092.
Facility | Seabrook Station Unit No. 1
Docket Nos. | 72-63
Licensee | NextEra Energy Seabrook, LLC.
Proposed Action | The NRC's review and approval of Florida Power & Light Company's initial and NextEra Energy's updated DFPs submitted in accordance with 10 CFR 72.30(b) and (c).
Environmental Impact of Proposed Action | The NRC staff has determined that the proposed action, the review and approval of Florida Power & Light Company's initial and NextEra Energy's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Florida Power & Light Company's initial and NextEra Energy's updated DFPs. The scope of the proposed action does not include, and will not result in, the review and approval of decontamination or decommissioning activities or license termination for the ISFSI or for other parts of Seabrook Station Unit No. 1. Therefore, the NRC staff determined that approval of the initial and updated DFPs for the Seabrook Station Unit No. 1 ISFSI will not significantly affect the quality of the human environment, and accordingly, the staff has concluded that a FONSI is appropriate. The NRC staff further finds that preparation of an environmental impact statement (EIS) is not required.
Available Documents | FPL, 2012. ISFSI DFPs, dated December 17, 2012. ADAMS Accession No. ML12354A134.
| FPL, 2014. Reply to Request for Additional Information for Review of the DFPs Regarding the ISFSI, dated August 12, 2014. ADAMS Accession No. ML14225A655.
| FPL, 2017. Decommissioning Funding Status Reports/ISFSI Financial Assurance Update, dated March 30, 2017. ADAMS Accession No. ML17093A722.
| FPL, 2018. Response to Request for Additional Information Regarding Florida Power & Light/NextEra Decommissioning Funding Updates for ISFSI, dated April 3, 2018. ADAMS Accession No. ML18095A057.
| NextEra Energy, 2015. Decommissioning Funding Status Reports/ISFSI Financial Assurance Update, dated March 27, 2015. ADAMS Accession No. ML15090A114.
| U.S. Nuclear Regulatory Commission. 2003/08/31-NUREG-1748, “Environmental Review Guidance for Licensing Actions Associated with NMSS Programs, Final Report.” Washington, DC, dated August 2003. ADAMS Accession No. ML032540811.
| U.S. Nuclear Regulatory Commission. EA for Final Rule-Decommissioning Planning, dated February 1, 2009. ADAMS Accession No. ML090500648.
| U.S. Nuclear Regulatory Commission. Request for Additional Information for Review of the DFPs for Florida Power & Light and NextEra Energy ISFSIs, dated May 23, 2014. ADAMS Accession No. ML14143A141.
| U.S. Nuclear Regulatory Commission. Note to File, Re: ESA Section 7 No Effect Determination for ISFSI DFP Reviews, dated May 15, 2017. ADAMS Accession No. ML17135A062.
| U.S. Nuclear Regulatory Commission. Review of the Draft EA and FONSI for the Seabrook Station ISFSI DFP, dated August 17, 2017. ADAMS Accession No. ML17226A329.
| U.S. Nuclear Regulatory Commission. Request for Additional Information Regarding Florida Power & Light/NextEra DFP Updates for St. Lucie, Units 1 and 2; Seabrook Station; Duane Arnold Energy Center; and Point Beach, Units 1 and 2 ISFSIs, dated February 27, 2018. ADAMS Package Accession No. ML18058A051.
| U.S. Nuclear Regulatory Commission. Final EA and FONSI for Florida Power & Light Company's Initial and NextEra Energy's Updated DFPs Submitted in Accordance with 10 CFR 72.30(b) and (c) for Seabrook Station Unit No. 1 ISFSI, dated April 21, 2021. ADAMS Package Accession No. ML21062A145.

Dated: April 28, 2021.
For the Nuclear Regulatory Commission.
John B. McKirgan,
Chief, Storage and Transportation Licensing Branch, Division of Fuel Management, Office of Nuclear Material Safety and Safeguards.

[FR Doc. 2021-09293 Filed 5-3-21; 8:45 am]

BILLING CODE 7590-01-P